DEPARTMENT OF HOMELAND SECURITY

Federal Emergency Management Agency

[Docket ID: FEMA-2012-0033; OMB No. 1660-0082]

Agency Information Collection Activities: Proposed Collection; Application for Community Disaster Loan Cancellation; Comment Request

AGENCY: Federal Emergency Management Agency, DHS.

ACTION: Notice.

SUMMARY: The Federal Emergency Management Agency, as part of its continuing effort to reduce paperwork and respondent burden, invites the general public and other Federal agencies to take this opportunity to comment on an extension of a currently approved collection. In accordance with the Paperwork Reduction Act of 1995, this notice seeks comments concerning Community Disaster Loans (CDLs) offered to local governments that have suffered substantial losses of taxes or other revenues as a result of a major disaster or emergency. FEMA shall cancel repayment of all or part of a Community Disaster Loan if, as a result of the disaster, the revenues of the local government during the full three fiscal year period following the disaster are insufficient to meet the local government's operating budget.

DATES: Comments must be submitted on or before February 26, 2013.

ADDRESSES: To avoid duplicate submissions to the docket, please use only one of the following means to submit comments:

(1) Online. Submit comments at www.regulations.gov under Docket ID FEMA-2010-0033. Follow the instructions for submitting comments.

(2) Mail. Submit written comments to Docket Manager, Office of Chief Counsel, DHS/FEMA, 500 C Street SW., Room 835, Washington, DC 20472-3100.

All submissions received must include the agency name and Docket ID. Regardless of the method used for submitting comments or material, all submissions will be posted, without change, to the Federal eRulemaking Portal at http://www.regulations.gov, and will include any personal information you provide. Therefore, submitting this information makes it public. You may wish to read the Privacy Act notice that is available on the homepage of www.regulations.gov.

FOR FURTHER INFORMATION CONTACT: Victor Kurz, Program Manager, Community Disaster Loans, Technology and Support Branch, Public Assistance Program, Recovery Directorate, 202-646-7947. You may contact the Records Management Division for copies of the proposed collection of information at facsimile number (202) 646-3347 or email address: FEMA-Information-Collections-Management@dhs.gov.

SUPPLEMENTARY INFORMATION: The Community Disaster Loan (CDL) Program is authorized by section 417 of the Disaster Relief Act of 1974 (Pub. L. 93-288), as amended by the Robert T. Stafford Disaster Relief and Emergency Act of 1988 (Pub. L. 100-707), and implemented by FEMA regulation 44 CFR, subpart K, Community Disaster Loans. Community Disaster Loans, section 206.366. The CDL Program offers loans to local governments that have suffered a substantial loss of tax or other revenues as a result of a major disaster or emergency and demonstrates a need for Federal financial assistance in order to perform their governmental functions.

Collection of Information

Title: Application for Community Disaster Loan Cancellation.

Type of Information Collection: Extension, without change, of a currently approved collection.

FEMA Forms: FEMA Form 009-0-15.

Abstract: Local governments may submit an Application for Loan Cancellation through the Governor's Authorized Representative to the FEMA Regional Administrator prior to the expiration date of the loan. FEMA has the authority to cancel repayment of all or part of a Community Disaster Loan or a Special Community Disaster Loan to the extent that a determination is made that revenues of the local government during the three fiscal years following the disaster are insufficient to meet the operating budget of that local government because of disaster related revenue losses and additional non-reimbursable disaster-related municipal operating expenses. Operating budget means actual revenues and expenditures of the local government as published in the official financial statements of the local government.

Affected Public: State, Local or Tribal Government.

Number of Respondents: 27.

Number of Responses: 27.

Estimated Total Annual Burden Hours: 1 hour.

Estimated Cost: There are no recordkeeping, capital, start-up or maintenance costs associated with this information collection.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: December 17, 2012.
Charlene D. Myrthil,
Director, Records Management Division, Mission Support Bureau, Federal Emergency Management Agency, Department of Homeland Security.

[FR Doc. 2012-31219 Filed 12-27-12; 8:45 am]

BILLING CODE 9111-23-P